DEPARTMENT OF COMMERCE

National Oceanic and Atmospheric Administration

Request for Comment; Implementation Plan for the National Strategy for Ocean Mapping, Exploring, and Characterizing the United States Exclusive Economic Zone

AGENCY: National Oceanic and Atmospheric Administration (NOAA), Office of Oceanic and Atmospheric Research (OAR).

ACTION: Notice of public comment.

SUMMARY: On behalf of the Ocean Policy Committee, Ocean Science and Technology Subcommittee, and the Office of Science and Technology Policy (OSTP) and the Council on Environmental Quality (CEQ) as Co-Chairs of the Ocean Policy Committee, the National Ocean Mapping, Exploration, and Characterization Council (NOMEC Council) requests input from all interested parties on the development of an Implementation Plan for the National Strategy for Ocean Mapping, Exploring, and Characterizing the United States Exclusive Economic Zone (U.S. EEZ) (“National Strategy”). Through this Request for Information (RFI), the NOMEC Council seeks input from the public on engaging stakeholders in developing the Implementation Plan for the National Strategy, and the processes that will ensure implementation is informed by and responsive to all sectors through sustained engagement and effective partnerships.

DATES: Comments must be received by October 30, 2020 November 12, 2020.

ADDRESSES: A copy of the National Strategy may be downloaded or viewed at: https://www.whitehouse.gov/wp-content/uploads/2020/01/20200611-FINAL-STRATEGY-NOMEC-Sec.-2.pdf. Responses should be submitted via email to nomec.execsec@noaa.gov. Include “Public Comment on Implementation Plan for the National Strategy” in the subject line of the message. All personal identifying information (e.g., name, address, etc.), confidential business information, or otherwise sensitive information submitted voluntarily by the sender is publicly accessible. NOAA will accept anonymous comments. Clearly indicate which section and page number, if applicable, submitted comments pertain to. All submissions must be in English. Please note that the U.S. Government will not pay for responsible preparation, or for the use of any information contained in the response.

Instructions: Response to this RFI is voluntary. Respondents need not reply to all questions listed. For all submissions, clearly indicate which questions are being answered. Email attachments will be accepted in plain text, Microsoft Word, or Adobe PDF formats only. Each individual or institution is requested to submit only one response. OSTP may post responses to this RFI, without change, on a Federal website. NOAA, therefore, requests that no business proprietary information, copyrighted information, or personally identifiable information be submitted in response to this RFI. Please note that the U.S. Government will not pay for response preparation, or for the use of any information contained in the response.

FOR FURTHER INFORMATION CONTACT: National Ocean Mapping, Exploration, and Characterization (NOMEC) Council Co-Chairs; Dr. Alan Leonardi, NOAA, alan.leonardi@noaa.gov, 301-734-1016; RDML Shepard Smith, NOAA, shep.smith@noaa.gov, 202-510-5561; Dr. John Haines, USGS, jhaines@usgs.gov, 703-648-6422.

SUPPLEMENTARY INFORMATION: Pursuant to Presidential Memorandum, Ocean Mapping of the United States Exclusive Economic Zone and the Shoreline and Nearshore of Alaska, 84 FR 64699 (Nov. 19, 2020), the National Ocean Mapping, Exploration, and Characterization Council (NOMEC Council), on behalf of the Director of the OSTP and the Chairman of the CEQ, in their capacity as Co-Chairs of the Ocean Policy Committee, and working through its Ocean Science and Technology Subcommittee and in coordination with the Administrator of NOAA, seek public input and information for development of an Implementation Plan for the National Strategy. The NOMEC Council has commenced development of the Implementation Plan and is soliciting public input through this RFI to obtain information from a wide range of stakeholders, including academia, private industry, and other relevant organizations and institutions to provide input on stakeholder engagement in developing and executing the Implementation Plan. The public input provided in response to this RFI will inform the NOMEC Council as it continues to develop the Implementation Plan.

Questions To Inform Development of the Implementation Plan

Through this RFI, the National Ocean Mapping, Exploration, and Characterization Council seeks responses to the following questions to inform development of an Implementation Plan for the National Strategy on Ocean Mapping, Exploration, and Characterization that is responsive to cross-sector requirements and engages all interested sectors in the implementation.

1. What does successful implementation look like to your organization, sector, or interest group? How do you anticipate your organization or sector will participate in the NOMEC implementation?

2. What specific implementation actions would be of value to your organization/sector?

3. How should the Council appropriately engage your organization and/or sector in developing an implementation plan? How should we engage your organization to get ongoing feedback throughout implementation?

4. What activities is your organization currently undertaking, has recently undertaken, or is planning that may support or benefit from NOMEC implementation? What processes and connections would be required to realize those opportunities?

5. What publicly accessible databases and archives does your organization offer that may house data relevant to NOMEC?

6. Who are the additional partners that are needed to effectively plan and execute a successful NOMEC program in the future, as well as those that can help disseminate information from this work to various audiences? How could Federal agencies more effectively engage these partners? If there are barriers to this cooperation, please describe. Please do not only limit your responses to organizations that are traditionally involved in this work, but also think how we can engage other groups that can make important contributions.

Dated: September 24, 2020.
David Holst,
Chief Financial and Administrative Officer, Office of Oceanic and Atmospheric Research, National Oceanic and Atmospheric Administration.

[FR Doc. 2020-22411 Filed 10-9-20; 8:45 am]

BILLING CODE 3510-KD-P